DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before April 26, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, DC, on March 23, 2004.
R. Ryan Posten,
Exemptions Program Officer, Office of Hazardous Materials Exemptions & Approvals.

New Exemptions—February 2004
Application number | Docket number | Applicant | Regulation(s) affected | Nature of exemption thereof
13482-N |  | U.S. Vanadium Corporation (Subsidiary of Straegic Minerals Corporation), Niagara Falls, NY | 49 CFR 172.102 (SP B14) | To authorize the transportation in commerce of certain uninsulated DOT specification 51 portable tanks that are currently authorized for certain hazardous materials, except that the portable tanks do not meet the provisions of Section 172.101 SP B14. (modes 1, 3).
13483-N |  | Norris Cylinder Company, Longview, TX | 49 CFR 173.301(a)(1); 173.301(a)(2); 173.302a(a)(1) | To authorize the transportation of a non-DOT specification cylinder conforming in part with the DOT-3AA specification, for use in transporting non-liquefied compressed gases. (modes 1, 4).
13484-N |  | Air Liquide America L.P., Houston, TX | 49 CFR 177.834 | To authorize cargo tanks to remain connected while standing without the physical presence of an unloader. (mode 1).
13485-N |  | Taylor-Wharton (Harsco Gas and Fluid Control Group), Harrisburg, PA | 49 CFR 173.301(a); 173.302a; 173.304a(a); 173.3; 180.205(c)(f)(g) | To authorize the manufacture, mark, sale and use of a non-DOT specification cylinder conforming with all regulation applicable to a DOT-3AA specification cylinder for use in transporting Division 2.1, 2.2 and 2.3 hazardous materials. (modes 1, 2, 3, 4, 5).
13487-N |  | University of Colorado Health Services Center, Denver, CO | 49 CFR 173.197 | To authorize the one-way transportation in commerce of certain infectious materials in alternative packaging. (mode 1).
13522-N |  | Green-Port Environmental Managers, LTD., Scipio Center, NY | 49 CFR 173.25; 173.29(a); 173.301(a)(9); 177.840 | To authorize the transportation in commerce of DOT-Specification 39 cylinders for disposal in alternative outside packaging. (mode 1).

[FR Doc. 04-6864 Filed 3-25-04; 8:45 am]

BILLING CODE 4909-60-M